DEPARTMENT OF THE INTERIOR

Bureau of Land Management

[UT-070-1610-011J]

Notice of Availability of the Price Field Office Proposed Resource Management Plan and Final Environmental Impact Statement (PRMP/FEIS)

AGENCY: Bureau of Land Management, Interior.

ACTION: Notice of Availability.

SUMMARY: In accordance with the National Environmental Policy Act of 1969 and the Federal Land Policy and Management Act of 1976, the Bureau of Land Management (BLM) has prepared a Proposed Resource Management Plan/Final Environmental Impact Statement (PRMP/FEIS) for the Price Field Office.

DATES: The BLM planning regulations (43 CFR 1610.5-2) state that any person who meets the conditions as described in the regulations may protest the BLM's PRMP/FEIS. A person who meets the conditions and files a protest must file the protest within 30 days of the date that the Environmental Protection Agency publishes this notice in the Federal Register.

ADDRESSES: Copies of the Price Field Office PRMP/FEIS were sent to affected Federal, state, and local government agencies and to interested parties. Copies of the PRMP/FEIS are available for public inspection at: Price Field Office, 125 South 600 West, Price, UT 84501. Utah State Office, 440 West 200 South, Salt Lake City, UT 84145.

Interested persons may also review the PRMP/FEIS on the Internet at http://www.blm.gov/ut/st/en/fo/price/planning.html. All protests must be in writing and mailed to the following addresses:

Regular Mail: BLM Director (210), Attention: Brenda Hudgens-Williams, P.O. Box 66538, Washington, DC 20035.

Overnight Mail: BLM Director (210), Attention: Brenda Hudgens-Williams, 1620 L Street, NW., Suite 1075, Washington, DC 20036.

FOR FURTHER INFORMATION, CONTACT: Floyd Johnson, Price Field Office, 125 South 600 West, Price, UT 84501; phone: (435)636-3600; or e-mail at: Floyd_Johnson@blm.gov.

SUPPLEMENTARY INFORMATION: The Price RMP planning area is located in central Utah. The BLM administers approximately 2.5 million acres of surface estate and 2.8 million acres of Federal mineral estate within the planning area.

The Price RMP will provide future broad-scale management direction for land use allocations and allowable uses on public lands within the planning area. Implementation of the decisions of the PRMP/FEIS would apply only to BLM-administered public lands and Federal mineral estate. In the Draft RMP/EIS (DRMP/DEIS), which was released for public review and comment in July 2004, five alternatives were analyzed, including a No Action alternative. These alternatives were developed through issue identification during the scoping process. Public involvement and collaboration began with scoping to identify issues, concerns, and opportunities to be resolved in the planning process. Input on planning issues was gathered from the public during a comment period and associated open houses. The major issues addressed in the PRMP/DEIS include: oil and gas leasing and development; management of recreation opportunities in Special Recreation Management Areas (SRMAs), designation of routes for off-highway vehicle (OHV) travel, livestock grazing, management of Areas of Critical Environmental Concern (ACECs), and recommendations for Wild and Scenic Rivers (WSR) designations. In September 2007 a Supplemental DEIS was released for public review and comment which considered an additional alternative emphasizing the protection of non-WSA lands with wilderness characteristics. The PRMP/FEIS would designate five new ACECs, and the continuation of eight existing ACECs, totaling 206,965 acres. Resource use limitations that apply to the proposed ACECs include a range of prescriptions as described in Table 1 below.

Table 1—Evaluation of Areas of Critical Environmental Concern
Area name | Values of concern | Resource use limitations | Acres
Big Flat Tops | Relict vegetation | 1, 2, 3, 4, 5, 6, 7, 8, 9, 10 | 192
Bowknot Bend | Relict vegetation | 1, 2, 3, 4, 5, 6, 7, 8, 9, 10 | 1,087
Dry Lake Archaeological District | Cultural | 11, 12, 13, 14 | 18,010
Interstate 70 | Scenic | 2, 5, 7, 9, 12, 13, 14 | 33,068
Muddy Creek | Cultural, Historic, Scenic | 2, 5, 7, 9, 12 (1 in WSA), 13, 14, 15 | 25,119
Pictographs/Rock Art | Cultural | 1, 2, 3, 4, 5, 6 (partial), 7, 8, 14 | 5,303
San Rafael Canyon | Scenic | 5, 6 (partial), 7, 8, 9, 13, 14, 16 | 17,595
San Rafael Reef | Scenic, Vegetation | 1, 2, 3, 4, 5, 7, 8, 9, 14 | 73,170
Seger's Hole | Scenic | 2, 5, 7, 9, 12, 13, 14 | 7,067
Nine Mile Canyon | Cultural | 14, 17, 18 | 26,211
Cleveland-Lloyd Dinosaur Quarry | Paleontologic | 2, 3, 19, 20, 21, 22, 1 (partial), 12 (partial) | 766
Heritage Sites | Historic | 2, 3 (partial), 4, 7, 8, 12, 15, 23 | 1,095
Uranium Mining Districts | Historic | 6, 12, 15, 24 | 2,201

1. Closed to oil and gas leasing.

2. Closed to mineral materials disposal.

3. Proposed for withdrawal from locatable mineral entry.

4. Excluded from ROW grants.

5. Excluded from private or commercial use of woodland products.

6. Excluded from livestock use.

7. Excluded from land treatments.

8. Excluded from range improvements.

9. VRM Class I.

10. Closed to OHV use.

11. Block cultural surveys required.

12. Oil and gas leasing subject to No Surface Occupancy.

13. Avoidance area for ROW grants.

14. OHV use limited to designated routes.

15. Firewood collection not allowed.

16. Oil and gas subject to minor constraints.

17. Oil and gas leasing subject to No Surface Occupancy on federal surface, Controlled Surface Use on split estate.

18. VRM Class II and III.

19. Closed to public access without authorization (use fee).

20. Camping not allowed.

21. Fossil and mineral collection not allowed.

22. Hiking on developed trails only.

23. VRM Class II.

24. No historic structures to be disturbed.

Comments on the Price Field Office DRMP/DEIS received from the public and internal BLM review were considered and incorporated as appropriate into the PRMP/FEIS. Public comments resulted in the addition of clarifying text, but did not significantly change proposed land use plan decisions.

Instructions for filing a protest with the Director of the BLM regarding the PRMP/FEIS may be found in the Dear Reader Letter of the PRMP/FEIS and at 43 CFR 1610.5-2. E-mail and faxed protests will not be accepted as valid protests unless the protesting party also provides the original letter by either regular or overnight mail postmarked by the close of the protest period.

Under these conditions, the BLM will consider the e-mail or faxed protest as an advance copy and it will receive full consideration. If you wish to provide the BLM with such advance notification, please direct faxed protests to the attention of the BLM protest coordinator at 202-452-5112, and e-mails to Brenda_Hudgens-Williams@blm.gov.

All protests, including the follow-up letter (if e-mailing or faxing) must be in writing and mailed to the appropriate address, as set forth in the ADDRESSES section above.

Before including your phone number, e-mail address, or other personal identifying information in your protest, you should be aware that your entire protest—including your personal identifying information—may be made publicly available at any time. While you can ask us in your protest to withhold your personal identifying information from public review, we cannot guarantee that we will be able to do so.

Authority: 40 CFR 1506.6, 43 CFR 1610.2, 43 CFR 1610.5-1.

Dated: June 5, 2008.
Selma Sierra,
Utah State Director.

[FR Doc. E8-19950 Filed 8-28-08; 8:45 am]

BILLING CODE 4310-DQ-P